Title 3—

The President

Notice of February 20, 2014

Continuation of the National Emergency With Respect to Libya

On February 25, 2011, by Executive Order 13566, I declared a national emergency pursuant to the International Emergency Economic Powers Act (50 U.S.C. 1701-1706) to deal with an unusual and extraordinary threat to the national security and foreign policy of the United States. I found that Colonel Muammar Qadhafi, his government, and close associates had taken extreme measures against the people of Libya, including by using weapons of war, mercenaries, and wanton violence against unarmed civilians. In addition, there was a serious risk that Libyan state assets would be misappropriated by Qadhafi, members of his government, members of his family, or his close associates if those assets were not protected. The foregoing circumstances, the prolonged attacks, and the increased numbers of Libyans seeking refuge in other countries caused a deterioration in the security of Libya and posed a serious risk to its stability, thereby constituting an unusual and extraordinary threat to the national security and foreign policy of the United States.

We are in the process of winding down the sanctions in response to developments in Libya, including the fall of Qadhafi and his government and the establishment of a democratically elected government. We are working closely with the new Libyan government and with the international community to effectively and appropriately ease restrictions on sanctioned entities, including by taking action consistent with the U.N. Security Council's decision to lift sanctions against the Central Bank of Libya and two other entities on December 16, 2011. The situation in Libya, however, continues to pose an unusual and extraordinary threat to the national security and foreign policy of the United States and we need to protect against this threat and the diversion of assets or other abuse by certain members of Qadhafi's family and other former regime officials. Therefore, the national emergency declared on February 25, 2011, and the measures adopted on that date to deal with that emergency, must continue in effect beyond February 25, 2014. Therefore, in accordance with section 202(d) of the National Emergencies Act (50 U.S.C. 1622(d)), I am continuing for 1 year the national emergency declared in Executive Order 13566.

This notice shall be published in the Federal Register and transmitted to the Congress.

THE WHITE HOUSE,

February 20, 2014.

[FR Doc. 2014-04133

Filed 2-21-14; 11:15 am]

Billing code 3295-F4